DEPARTMENT OF THE INTERIOR

Fish and Wildlife Service

[FWS-R5-R-2010-N150; 50133-1265-CHNP-S3]

Chincoteague National Wildlife Refuge and Wallops Island National Wildlife Refuge, Accomack County, VA; Comprehensive Conservation Plan and Environmental Impact Statement

AGENCY: Fish and Wildlife Service, Interior.

ACTION: Notice of intent; announcement of public scoping and request for comments.

SUMMARY: We, the U.S. Fish and Wildlife Service (FWS), are gathering information to prepare a comprehensive conservation plan (CCP) and associated environmental impact statement (EIS) for Chincoteague National Wildlife Refuge (NWR) and Wallops Island NWR. We provide this notice in compliance with our policy to advise other agencies and the public of our intentions to conduct detailed planning on refuges, and obtain suggestions and information about the scope of issues to consider in the planning process.

DATES: We will hold public scoping open house meetings between August and November of 2010 in Accomack County, Virginia, and Worcester County, Maryland. The meetings will be announced through our Web site(http://www.fws.gov/northeast/planning), local newspapers, a newsletter, and personal contacts. See the ADDRESSES section for information about where to submit your comments. To ensure consideration of your written comments regarding the scope of the refuge management plan, you should submit them no later than January 18, 2011.

ADDRESSES: Send your comments or requests for more information on the planning process by any of the following methods:

Electronic mail: northeastplanning@fws.gov. Include “Chincoteague NWR” in the subject line of the message.

Facsimile: Attention: Thomas Bonetti, at 413-253-8468.

U.S. mail: Thomas Bonetti, Refuge Planner, U.S. Fish and Wildlife Service, 300 Westgate Center Drive, Hadley, MA 01035.

In person drop-off: You may drop off comments during regular business hours at the above address.

FOR FURTHER INFORMATION CONTACT: To obtain more information on the refuge, contact Louis Hinds, Refuge Manager, at Chincoteague NWR, P.O. Box 62, Chincoteague Island, VA 23336; phone: 757-336-6122; facsimile: 757-336-5273; electronic mail: fw5rw_cnwr@fws.gov or Web site: http://chinco.fws.gov/.

For additional questions about the planning process, you may contact Thomas Bonetti via the above methods or by calling 413-253-8307.

SUPPLEMENTARY INFORMATION:

Introduction

This notice initiates the CCP process for Chincoteague NWR and Wallops Island NWR, located in Accomack County, Virginia.

Background

The CCP Process

The National Wildlife Refuge System Administration Act of 1966, as amended by the National Wildlife Refuge System Improvement Act of 1997 (16 U.S.C. 668dd-668ee), requires us to develop a CCP for each national wildlife refuge. The purpose of a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

We establish each refuge for specific purposes, and use those purposes to develop and prioritize its management goals, objectives, and public uses. The planning process is one way for us and for the public to evaluate those goals and objectives for the best possible conservation of important wildlife habitat, while providing opportunities for wildlife-dependent recreation compatible with those purposes and the mission of the NWRS.

We request your input on all issues, concerns, ideas, improvements, and suggestions for the future management of Chincoteague NWR. In addition to this opportunity to participate in the scoping for the project, you may submit additional comments during the planning process by writing to the refuge planner (see ADDRESSES section).

We will conduct the environmental review of this project in accordance with the requirements of the National Environmental Policy Act of 1969 (NEPA), as amended (42 U.S.C. 4321 et seq.), the Council on Environmental Quality Regulations on NEPA (40 CFR parts 1500-1508), other appropriate Federal laws and regulations, and our policies and procedures for complying with them.

Chincoteague NWR and Wallops Island NWR

Under the authority of the Migratory Bird Conservation Act, Chincoteague NWR was established on May 13, 1943, for the protection and management of migratory birds, especially migrating and wintering waterfowl. Since that time, objectives have been expanded to protect and manage threatened and endangered species and other wildlife, and provide for wildlife-oriented public use.

The refuge encompasses 14,032 acres, of which all but 418 acres in Maryland are located in Accomack County on the Eastern Shore of Virginia. The refuge also manages three smaller divisions that are located on the Virginia Barrier Islands: Assawoman Island Division, which contains 1,434 acres and encompasses the entire island; Metompkin Island Division, which consists of 174 acres on the north end of the island; and Cedar Island Division, which contains over 1,412 acres in fee title and 600 acres in easements. Additional refuge lands include 546 acres on Wildcat Marsh (located on the north end of Chincoteague Island) and 427 acres on Morris Island (located between Chincoteague and Assateague Islands).

The refuge's location along the Atlantic Flyway makes it a vital resting and feeding spot for a large number and diversity of birds. Within a one-day drive to millions of people, Chincoteague NWR is one of the most visited refuges in the United States, providing visitors with outstanding opportunities to learn about and enjoy wildlands and wildlife.

Refuge staff manages this barrier island habitat to allow many species of wildlife to co-exist, each establishing its own place in the environment. For example, the refuge supports breeding populations of the federally endangered Delmarva Peninsula fox squirrel and the threatened piping plover. Additionally, the Atlantic loggerhead sea turtle is a threatened species that nests occasionally on the refuge. Refuge management programs are targeted to provide feeding and resting areas for birds in migration, and nesting and brood-rearing habitat for those birds that find the refuge suitable for reproduction.

The refuge is also one of the top shorebird migratory staging areas in the United States east of the Rocky Mountains. In 1990, the barrier islands that make up Chincoteague NWR, along with other barrier islands of the Eastern Shore of Virginia and Maryland, were designated an International Shorebird Reserve. This coastal barrier island/lagoon system has also been designated a World Biosphere Reserve by the United Nations Educational, Scientific, and Cultural Organization in recognition of its great ecological value. Moreover, the Department of Interior designated the area a National Natural Landmark in recognition of its outstanding natural values.

The refuge is an important recreational destination point for people living in the Washington, Baltimore, Philadelphia, and New York City areas. Attracted to the beautiful beach and the aesthetically pleasing nature of the island, hundreds of thousands of people visit Assateague Island annually. Managed jointly by the National Park Service and the FWS, Assateague Island supports a growing tourism economy in the town of Chincoteague and Accomack County.

Popular attractions within the refuge include the undeveloped beach, the historic, functioning Assateague Lighthouse, the Wildlife Loop for automobiles, and 6.5 miles of walking trails (including some compliant with the Americans with Disabilities Act) that provide viewing opportunities of the Chincoteague ponies, wildlife such as the sika elk, and migratory birds. The Herbert H. Bateman Educational and Administrative Center, a green facility that opened in 2003, is the refuge's visitor center and offers 5,000 square feet of interpretive natural history exhibits, educational programming, a 125-seat auditorium, and a classroom/wet laboratory. The refuge also provides wildlife-dependent recreational opportunities such as fishing, hunting, and wildlife photography.

Wallops Island NWR was created on July 10, 1975, when 373 acres of land were transferred to the FWS from the National Aeronautics and Space Administration (NASA). Wallops Island NWR is located entirely in Accomack County, Virginia. The refuge, comprised mainly of salt marsh and woodlands, contains habitat for a variety of trust species, including upland- and wetland-dependent migratory birds. Wallops Island NWR was opened for the first time to public hunting in 2002 to reduce the effects of overbrowsing on refuge habitat by white-tailed deer, and to reduce the potential of deer collisions with vehicles on the adjacent State Highway 175 and neighboring NASA flight facility.

Public Availability of Comments

Before including your address, phone number, electronic mail address, or other personal identifying information in your comment, you should be aware that your entire comment—including your personal identifying information—may be made publicly available at any time. While you can ask us in your comment to withhold your personal identifying information from public review, we cannot guarantee that we will be able to do so.

Dated: August 10, 2010.
Anthony D. Léger,
Acting Regional Director, U.S. Fish and Wildlife Service, Hadley, MA 01035.

[FR Doc. 2010-23233 Filed 9-16-10; 8:45 am]

BILLING CODE 4310-55-P